DEPARTMENT OF THE INTERIOR

Bureau of Land Management

[CO-220-1020XQ]

Call for Nominations for Northwest and Front Range Resource Advisory Councils (Colorado)

AGENCY: Bureau of Land Management, Interior.

ACTION: Extension of nomination period.

SUMMARY: The purpose of this notice is to extend the Nomination Period to fill positions which have recently been vacated on two Colorado, Bureau of Land Management (BLM), Resource Advisory Councils. The original notice calling for nominations appeared in the Federal Register on February 7, 2000 with the Nomination Period closing March 23, 2000. This Nomination Period has been extended to April 20, 2000.

The position to be filled on the Northwest Resource Advisory Council is “Public-at-Large” in Category 3.

The position on the Front Range Resource Advisory Council which is being filled is also “Public-at-Large” in Category 3.

DATES: Completed Nomination/Background Information Forms and any other necessary information should be received in the appropriate office by April 20.

ADDRESSES: Northwest Resource Advisory Council—Bureau of Land Management, Northwest Center, Attn: RAC Nomination, 2815 H Road, Grand Junction, Colorado 81506.

Front Range Resource Advisory Council—Bureau of Land Management, Front Range Center, Attn: RAC Nomination, 3170 East Main Street, Canon City, Colorado 81212.

FOR FURTHER INFORMATION CONTACT: Ken Smith, (719) 269-8553; for information about the Front Range Resource Advisory Council or Lynn Barclay, (970) 826-5096 for information about the Northwest Resource Advisory Council.

SUPPLEMENTARY INFORMATION: This Nomination Period has been extended to be consistent with the Bureau of Land Management's annual call for nominations to fill positions on the Councils whose terms expire each year.

Dated: March 14, 2000.
Donnie R. Sparks,
Center Manager.

[FR Doc. 00-7146 Filed 3-22-00; 8:45 am]

BILLING CODE 4310-JB-M